DEPARTMENT OF HEALTH AND HUMAN SERVICES

Centers for Medicare & Medicaid Services

[CMS-1230-N]

Medicare Program; Public Meetings in Calendar Year 2003 for New Durable Medical Equipment Coding and Payment Determinations

AGENCY: Centers for Medicare & Medicaid Services (CMS), HHS.

ACTION: Notice of meetings.

SUMMARY: This notice announces the dates and location of public meetings to be held in calendar year 2003 to discuss our preliminary coding and payment determinations for new durable medical equipment. These meetings provide a forum for interested parties to make oral presentations and/or to submit written comments in response to preliminary coding and pricing recommendations for new durable medical equipment that have been submitted using the Healthcare Common Procedure Coding System coding modification process. Discussion is directed toward response to our specific preliminary recommendations, and will be limited to items on the new durable medical equipment public meeting agenda.

DATES: The public meetings are scheduled for Tuesday, June 24; Wednesday, June 25; and Thursday, June 26, 2003. Each meeting day will begin at 8 a.m. and end at 5 p.m., e.s.t. We have tentatively scheduled Friday, June 27, 2003 as an optional meeting date. A meeting will only be held on June 27 if the number of agenda items cannot be managed in three meeting days.

ADDRESSES: The public meetings will be held in the Centers for Medicare & Medicaid Services (CMS) Auditorium, located at 7500 Security Boulevard, Baltimore, MD 21244.

Web site: Additional details regarding the public meeting process for new DME, along with information on how to register, and guidelines for an effective presentation will be posted at least one month before the first meeting date on the official HCPCS Web site, and can be accessed at http://cms.hhs.gov/medicare/hcpcs/default.asp.

Individuals who intend to provide a presentation at a public meeting for new DME should familiarize themselves with this information. This website also includes a description of the HCPCS coding process, along with a detailed explanation of the procedures used to make coding and payment determinations for DME and other items and services that are coded in the HCPCS.

A summary of each public meeting for new DME will be posted on the above website within one month after the meeting.

FOR FURTHER INFORMATION CONTACT: Jennifer Carver, (410) 786-6610.

SUPPLEMENTARY INFORMATION:

I. Background

On December 21, 2000, the Congress passed the Medicare, Medicaid, and SCHIP Benefits Improvement and Protection Act of 2000 (BIPA), Pub. L. 106-554. Section 531(b) of BIPA mandated that we establish procedures that permit public consultation for coding and payment determinations for new DME under Medicare Part B of title XVIII of the Social Security Act (the Act). The procedures and public meetings announced in this notice for new DME are in response to the mandate of section 531(b) of BIPA.

Information regarding the establishment of the public meeting process for new durable medical equipment was published in the Federal Register at 66 FR 58743 on November 23, 2001.

II. Registration

Registration Procedures: Registration may be completed on-line at http://cms.hhs.gov/medicare/hcpcs/default.asp, or you may contact the DME Public Meeting Coordinator, Jennifer Carver at 410-786-6610, to register by phone. The following information must be provided when registering: name, company name and address, telephone and fax numbers, e-mail address and special needs information. Registrants must also indicate whether they are the “Primary Speaker” for an agenda item, designated by the entity that submitted the HCPCS coding request. A CMS staff member will confirm your registration by mail, e-mail or fax.

Registration Deadline: Individuals must register for each date they plan to attend and/or provide a presentation. The deadline for registration for all of the meetings dates is Tuesday, June 10, 2003.

III. Presentations

Primary Speaker Presentations: The entity that submitted the HCPCS coding request for an item that appears on the Public Meeting agenda may designate one person to be the “Primary Speaker” and make a presentation at the meeting. We will post guidelines regarding the amount of time allotted to the speaker, as well as other presentation guidelines, on the official HCPCS website at least a month before the first public meeting in 2003 for new DME. Persons who have been designated to be a Primary Speaker must register to attend the meeting using the registration procedures described above and, at least 15 days before the meeting, contact the DME Public Meeting Coordinator, Jennifer Carver at 410-786-6610. At the time of registration, Primary Speakers must provide a brief, written statement regarding the nature of the information they intend to provide, and advise the meeting coordinator regarding needs for Audio/Visual Support. In order to avoid disruption of the meeting and ensure compatibility with our systems, tapes and disk files are tested and arranged in speaker sequence well in advance of the meeting. We will accommodate tapes and disk files that are received by the DME Public Meeting Coordinator 7 or more calendar days prior to the meeting. In addition, on the day of the meeting, Primary Speakers must provide a written summary of their comments to the DME Public Meeting Coordinator.

“5-Minute” Speaker Presentations: Meeting attendees will be permitted to sign up at the meeting, on a first-come, first-served basis, to make 5-minute presentations on individual agenda items. Based on the number of items on the agenda and the progress of the meeting, a determination will be made at the meeting by the meeting coordinator and the meeting moderator, regarding how many 5-Minute speakers can be accommodated. In order to offer the same opportunity to all attendees, there is no pre-registration for 5-Minute speakers. Attendees may sign-up only on the day of the meeting to do a 5-Minute presentation. They must provide their name, company name and address, contact information as specified on the sign-up sheet, and identify the specific agenda item that will be addressed. On the day of the meeting, 5-Minute speakers must provide a written summary of their comments to the DME Public Meeting Coordinator.

Speaker Declaration: The Primary Speakers and the 5-Minute Speakers must declare, at the meeting as well as in their written summary, whether or not they have any financial involvement with the manufacturers or competitors of any items or services being discussed. This includes any payment, salary, remuneration, or benefit provided to the speaker by the manufacturer.

Written Comments from Meeting Attendees: We welcome written comments from persons in attendance at a public meeting, whether or not they had the opportunity to make an oral presentation. Written comments may be submitted at the meeting, or prior to the meeting via e-mail to http://www.cms.hhs.gov/medicare/hcpcs or via regular mail to the HCPCS Coordinator, Centers for Medicare & Medicaid Services, 7500 Security Boulevard, Mail Stop C5-08-27, Baltimore, MD 21244.

General Information

The meetings are held in a Federal government building; therefore, Federal measures are applicable. In planning your arrival time, we recommend allowing additional time to clear security. In order to gain access to the building and grounds, participants must bring a government issued photo identification and a copy of your confirmation of pre-registration for the meeting. Access may be denied to persons without proper identification.

Security measures also include inspection of vehicles, inside and out, at the entrance to the grounds. In addition, all persons entering the building must pass through a metal detector. All items brought to CMS, whether personal or for the purpose of demonstration or to support a presentation, are subject to inspection. CMS cannot assume responsibility for coordinating the receipt, transfer, transport, storage, set-up, safety, or timely arrival of any personal belongings or items used for demonstration or to support a presentation.

Special Accommodations: Persons attending a meeting who are hearing or visually impaired and have special requirements, or a condition that requires special assistance or accommodations, should provide such information upon registering for the meeting.

Each meeting day will begin at 8 a.m. and end at 5 p.m., e.s.t. Because it is impossible to anticipate, in advance of the April 1, 2003 submission deadline, the nature and the number of coding requests that will be submitted for new DME, we can only estimate the amount of meeting time that will be needed, and we are unable to post a final agenda at this time. We may not need three full-day meetings. We will consider each meeting individually, and we may modify the meeting dates and times published in this notice. Final confirmation of meeting dates and times, and agenda items will be posted three weeks in advance of each scheduled meeting, on the official HCPCS Web site and can be accessed at http://cms.hhs.gov/medicare/hcpcs/default.asp.

Authority: Sections 1102 and 1871 of the Social Security Act (42 U.S.C. 1302 and 42 U.S.C. 1395hh).

(Catalog of Federal Domestic Assistance Program No. 93.774, Medicare—Supplementary Medical Insurance Program)
Dated: March 17, 2003.
Thomas A. Scully,
Administrator, Centers for Medicare & Medicaid Services.

[FR Doc. 03-7060 Filed 3-27-03; 8:45 am]

BILLING CODE 4120-01-P